DEPARTMENT OF TRANSPORTATION

Federal Aviation Administration

Notice of Availability of Draft Environmental Impact Statement (DEIS), Notice of Public Comment Period and Schedule of Public Information Meeting and Public Hearing for Proposed Relocation of the Panama City-Bay County International Airport to a New Site in Bay County, FL

AGENCY: Federal Aviation Administration (FAA), DOT. The U.S. Army Corps of Engineers (USACE) is a cooperating federal agency, having jurisdiction by law because the proposed federal action has the potential for significant wetland impacts.

ACTION: Notice of availability, notice of comment period, notice of public information meeting and public hearing.

SUMMARY: The Federal Aviation Administration (FAA) is issuing this notice to advise the public that a Draft Environmental Impact Statement (DEIS)—Proposed Relocation of the Panama City-Bay County International Airport, has been prepared and is available for public review and comment. Written requests for the DEIS and written comments on the DEIS can be submitted to the individual listed in the section FOR FURTHER INFORMATION CONTACT. A public information meeting and public hearing will be held on January 11, 2005. The public comment period will commence on November 26, 2004 and will close on January 21, 2005.

Public Comment and Information Meeting/Public Hearing: The start of the public comment period on the DEIS will be November 26, 2004 and will end on January 21, 2005. A Public Information Meeting and Public Hearing will be held on January 11, 2005. The public information meeting will begin at 5 p.m. (c.s.t.) and will last until 7 p.m. (c.s.t.). The public hearing will begin at 7 p.m. (c.s.t.) and will be a joint public hearing with the USACE. The location for the Public Information Meeting/Public Hearing is the Gulf Coast Community College, 5230 US 98, Panama City, Florida. Copies of the DEIS may be viewed during regular business hours at the following locations:

1. Panama City-Bay County International Airport Administration Office, 3173 Airport Road, Panama City, Florida 32405. (850) 763-6751.

2. Bay County Public Library, 25 West Government Street, Panama City, Florida 32401. (850) 872-7500.

3. U.S Army Corps of Engineers, Panama City Regulatory Office, 1002 West 23rd Street, Suite 350, Panama City, Florida 32405. (850) 763-0717.

4. Federal Aviation Administration, Orlando Airports District Office, 5950 Hazeltine National Drive, Suite 400, Orlando, Florida 32822. (407) 812-0331.

The Panama City-Bay County International Airport Administration Office has a limited number of CDs of the DEIS available for public distribution. Please contact this office for a copy.

FOR FURTHER INFORMATION CONTACT: Virginia Lane, Environmental Specialist, Federal Aviation Administration, Orlando Airports District Office, Suite 400, 5950 Hazeltine National Drive, Orlando, Florida 32822. Ms. Lane can be contacted at (407) 812-6331 (voice), (407) 812-6978 (facsimile).

SUPPLEMENTARY INFORMATION: The FAA prepared this DEIS to disclose the potential environmental impacts resulting from the proposed relocation of the Panama City-Bay County International Airport to a new site in Bay County, Florida. The U.S. Army Corps of Engineers (USACE) is a cooperating federal agency for this DEIS, having jurisdiction by law because the proposed Federal action has the potential for significant wetland impacts. The proposed new site would accommodate airfield development that would meet both short- and long-term aviation needs without being constrained by natural or man-made features. Initial development components of the proposed relocated airport would consist of airport and terminal facilities, and include a primary air carrier runway of 8,400 feet and a general aviation crosswind runway of 5,000 feet. This system would be supported by the necessary ancillary facilities including parallel and connecting taxiways, terminal area facilities, general aviation facilities, air traffic control and emergency service facilities, and lighting and navigation facilities. These initial development components are the subject of this DEIS.

The purpose and need for these improvements is reviewed in the DEIS. All reasonable alternatives will be considered, including the no-action alternative.

Comments from interested parties on the DEIS are encouraged and may be presented verbally at the public information meeting and/or public hearing or may be submitted in writing to the FAA at the address listed in the section entitled FOR FURTHER INFORMATION CONTACT. The comment period will close on January 21, 2005.

Issued in Washington, DC, on November 26, 2004.
Dennis E. Roberts,
Director, Office of Airport Planning and Programming.

[FR Doc. 04-26586 Filed 12-2-04; 8:45 am]

BILLING CODE 4910-13-M